DEPARTMENT OF LABOR

[Secretary's Order 03-2017]

Delegation of Authorities and Assignment of Responsibilities to the Assistant Secretary for Administration and Management

Date: January 18, 2017.

1. Purpose. To consolidate the delegations of authority and assignments of responsibility to the Assistant Secretary for Administration and Management (ASAM) and to codify other existing delegations not otherwise the subject of a Secretary's Order.

2. Directives Affected.

A. This Order repeals and supersedes Secretary's Order 05-2009 (Delegation and Assignment of Responsibilities to the Assistant Secretary for Administration and Management).

B. The following Secretary's Order is referenced herein and remains in effect: 2-2009 (Delegation of Authority and Assignment of Responsibility to the Chief Acquisition Officer and Assistant Secretary for Administration and Management, and Related Matters).

C. This Order does not affect the authorities and responsibilities assigned by any other Secretary's Order, including without limitation 9-1989 (Data Integrity Board), 5-2001 (MRB), 1-2006 (Emergency Management) and 6-2006 (Regional Executive Committees), unless otherwise expressly so provided in this or another Order.

3. Authority. This Order is issued pursuant to various authorities detailed by subject area below:

A. Performance Management. The Government Performance and Results Act of 1993, as amended, Public Law 103-62; The Reports Consolidation Act of 2000 (Pub. L. 106-531); The Federal Information Security Modernization Act (FISMA) of 2014, 44 U.S.C. 3551 et seq.; OMB Circular No. A-11, Part 6, “Preparation and Submission of Strategic Plans, Annual Performance Plans, and Annual Program Performance Reports.”

B. Employee Safety and Occupational Health and Workers' Compensation Program. Section 19 of the Occupational Safety and Health Act of 1970; Federal Employees' Compensation Act; Executive Order 12196, as amended by Executive Order 12223; 20 CFR 10; 29 CFR, Part 1960; 5 U.S.C. 7901, et. seq.

C. Operation and Maintenance of Departmental Buildings. Section 2 of Reorganization Plan No. 18 of 1950, 5 U.S.C. 901; the Federal Property and Administrative Services Act of 1949, 40 U.S.C. 581; “the Brooks Act”, 40 U.S.C. 1101 et seq.; Public Building Act of 1959, as amended, 40 U.S.C. 601-611; 40 U.S.C. 3305; The Uniform Relocation and Real Property Acquisition Policies Act of 1970 as amended, 46 U.S.C. 4601 et seq.; Public Buildings Cooperative Use Act of 1976, Public Law 94-541; Rural Development Act of 1972, Public Law 92-419, as amended by Section 636 of Division F of Public Law 108-199; Surface Transportation and Uniform Relocation Assistance Act of 1987 (101 Stat. 132); Energy Independence and Security Act of 2007, Public Law 110-140; Executive Orders 12072, 12411, 13006, and 13327; Federal Property Management Regulations, 41 CFR Chapter 101; Federal Management Regulations, 41 CFR 102.

D. Accessibility within Department of Labor Buildings and Facilities. Architectural Barriers Act of 1968, as amended, 42 U.S.C. 4151 et. seq.; and Section 502 of the Rehabilitation Act of 1973, 29 U.S.C. 792, as amended.

E. Telecommunications. Section 201 of the Federal Property and Administrative Services Act of 1949, codified at 40 U.S.C. 501.

F. Records Management. Presidential and Federal Records Act Amendments of 2014, Public Law 113-187; Reorganization Plan Number 6 (1950); the National Archives and Records Administration (NARA), Records Management Regulations, 36 CFR parts 1220 to 1238; 41 CFR part 102-193, General Services Administration (Creation, Maintenance and Use of Records); and the Guidance Memorandum, dated March 19, 2002, issued jointly by the Information on Security Oversight Office, National Archives and Records Administration and the Office of Information and Policy, U.S. Department of Justice, on “Safeguarding Information Regarding Weapons of Mass Destruction and Other Sensitive Records Related to Homeland Security.”

G. Printing. Title 44 of the United States Code, Public Printing and Documents; Joint Committee on Printing, S. Pub. 101-9, “Government Printing and Binding Regulations” (February 1990); and Federal Acquisition Regulation (FAR), Subpart 8.8, “Acquisition of Printing and Related Supplies”; OMB Memorandum M-02-07, “Procurement of Printing and Duplicating through the Government Printing Office,” dated May 3, 2002; Compact between the Office of Management and Budget and the U.S. Government Printing Office (September 16, 2008); Government Printing Office Style Manual, United States Government Printing Office, Washington, DC, Revised Edition, 2000; 41 CFR 101-5.1 Centralized Services in Federal Buildings or Complexes; United States Government Printing Office, Publication 310.1, GPO Contract Terms Quality Assurance Through Attributes Program (QATAP) dated May 1979 (Revised August 2002); GPO Agency Procedural Handbook, United States Government Printing Office, Publication 305.1, Revised August 1998; The Guidelines: Best Practices for Submitting Electronic Design and Prepress Files, United States Government Printing Office, Publication 300.6, dated August 1997, Rev. 07/04; Guide to Federal Publishing, Interagency Council on Printing and Publication Services and Federal Publishers Committee, 2d edition.

H. Environmental Stewardship. Resource Conservation and Recovery Act; Energy Policy Act of 1992; Energy Policy Act of 2005, sec. 701, as amended; Executive Order 12843; Executive Order 13101, Executive Order 13693; and Office of Federal Procurement Policy, Policy Letter No. 92-4, dated November 2, 1992.

I. Voluntary Health and Wellness Programs and Drug Free Workplace Program.

1. Voluntary Health and Wellness Programs:

a. Employee Assistance Program (EAP). Public Law 79-658, 5 U.S.C. 7901, Health Services Programs; Public Law 99-570, Title VI, The Federal Employee Substance Abuse Education and Treatment Act of 1986, 5 U.S.C. 7361 and 7362; Drug Abuse Office and Treatment Act of 1972 as amended by Public Law 93-282 and Public Law 96-181; the Federal Employee Substance Abuse Education and Treatment Act of 1986, 5 U.S.C. 7361 et. seq., codified at 5 U.S.C. 7904; 42 CFR part 2, Confidentiality of Alcohol and Drug Abuse Patient Records; Health Insurance Portability and Accountability Act of 1996 (“HIPAA”); Executive Order 12564 “Drug-free Federal Workplace Program”; Civil Service Reform Act of 1978, Public Law 95-454; Section 503 of the Supplemental Appropriations Act of 1987, Public Law 100-71, 101 Stat. 391, 468-471, codified at 5 U.S.C. 7301 note (1987); Mandatory Guidelines for Federal Workplace Drug Testing Programs, Substance Abuse and Mental Health Services Administration, Department of Health and Human Services, as amended (October 1, 2010); 29 CFR 1910.1020, Access to Employee Exposure and Medical Records; 5 CFR part 792.

b. Physical Fitness Programs. Public Law 79-658, 5 U.S.C. 7901, Health Services Programs.

c. Voluntary Employee Health Service Program (VEHSP). Public Law 79-658, 5 U.S.C. 7901, Health Services Programs; Health Insurance Portability and Accountability Act of 1996 (“HIPAA”), Public Law 104-191, 42 U.S.C. 1320d et. seq. (“HIPAA”); 5 U.S.C. 552a et. seq.; 5 CFR 293.501 et. seq., Employee Medical File System Records; 5 CFR part 297, Privacy Procedures for Personnel Records.

2. Drug-Free Workplace Program. Privacy Act of 1974, as amended, 5 U.S.C. 552a et. seq.; Section 503 of the Supplemental Appropriations Act of 1987, Public Law 100-71, codified at 5 U.S.C. 7301 note (1987); Executive Order 10450, “Security Requirements for Government Employment”; Executive Order 12564, “Drug-Free Federal Workplace Program”; Mandatory Guidelines for Federal Workplace Drug Testing Programs, Substance Abuse and Mental Health Services Administration, Department of Health and Human Services, as amended (November 1, 2004); The Department of Labor Drug-Free Workplace Plan, revised July 2004.

J. Commercial Services Management (formerly Competitive Sourcing). Federal Activities Inventory Reform Act of 1988 (the “FAIR Act”), 31 U.S.C. 501 Note; the Federal Acquisition Regulation (FAR); and OMB Circular A-76, Performance of Commercial Activities, as amended, including by February 11, 2005 Memorandum to Heads of Executive Departments and Agencies from Deputy Director for Management, Office of Management and Budget, Clay Johnson, III.

K. Metric System Conversion. Public Law 94-168, “The Metric Conversion Act of 1975”, 15 U.S.C. 205a et. seq.; Public Law 100-418, 5164, “The Omnibus Trade and Competitiveness Act of 1988”; Public Law 104-258, “The Savings in Construction Act of 1996,” Public Law 104-289.; and 15 CFR 273.1 et seq., “Metric Conversion Policy for Federal Agencies.”

L. Child Care Programs for Department Employees. 40 U.S.C. 590; Public Law 107-67, 630, codified at 40 U.S.C. 590(g); 5 CFR 792.201-792.206; “GSA Child Care Director's Desk Guide”; GSA “Facility Management Child Care Resource Book”; Agreement Between Local 12, AFGE, AFL-CIO and the U.S. Department of Labor, effective August 29, 2013, Articles 8 and 9.

4. Background. This Order repeals and supersedes Secretary's Order 05-2009 and shall constitute the primary Secretary's Order for the Office of the Assistant Secretary for Administration and Management (“OASAM”). However, because of the central role that OASAM performs within the Department, other Secretary's Orders also have delegations to the ASAM.

5. Statements of Policy

A. Performance Management. It is the policy of the Department to follow statutory performance management requirements and directives issued by the Office of Management and Budget and to utilize performance management tools to efficiently and effectively manage the Department's programs.

B. Employee Safety and Occupational Health and Workers' Compensation Program. It is the policy of the Department to provide its employees with places and conditions of employment that are free from recognized hazards that are likely to cause death or serious physical harm; to comply with applicable Federal safety and health standards, requirements, and procedures; to assure prompt abatement of unsafe or unhealthful working conditions; to ensure that no employee is subject to restraint, interference, coercion, discrimination, or reprisal for filing a report of unsafe or unhealthful working conditions; to annually inspect all of its workplaces; to provide safety and occupational health-related education for all employees; and to provide specialized training for those who are assigned safety and occupational health responsibilities; and to assist employees when workers' compensation services are sought.

C. Operation and Maintenance of Departmental Buildings. It is the Department's policy to properly and efficiently maintain all buildings owned by the Department or in which the Department is the primary tenant—or has received delegated authority from the General Services Administration (GSA) for operations and maintenance—and to take reasonable care to allocate fair use of all facilities and services including employee parking and general conference areas consistent with the Department's mission.

D. Accessibility within Department of Labor Buildings and Facilities. It is the policy of the Department to promote accessibility of buildings and facilities to individuals with disabilities, and to ensure that buildings and facilities controlled by the Department or constructed, leased or acquired with Federal financial assistance fully comply with statutory and regulatory provisions relating to compliance with architectural and programmatic accessibility standards.

E. Telecommunications. It is the policy of the Department to ensure the efficient and economical procurement and utilization of telecommunications services and facilities.

F. Records Management. It is the Department's policy to make and preserve Federal records, regardless of physical form or media, containing adequate and proper documentation of the organization, functions, policies, decisions, procedures, and essential transactions of the Department and designed to furnish the information necessary to protect the legal and financial rights of the Department and of persons directly affected by Departmental activities. The Department will properly identify recordkeeping requirements to effectively and efficiently manage Federal records throughout their life cycle. All Federal records shall be covered by National Archives and Records Administration (NARA) approved records retention schedules, and destroyed, retired, or transferred, only as prescribed in the approved record retention schedules. The Department recognizes that: (1) Good recordkeeping contributes to the smooth operation of agency programs by making the information needed for decision making and operations readily available; (2) provides information useful to successor officials and staff for background and analysis, facilitating transitions between Administrations; and (3) ensures accountability and protects records from inappropriate and unauthorized access and destruction.

G. Printing. It is the policy of the Department to plan, organize, direct and provide all printing, reproduction, and distribution services for its agencies in an efficient and economical manner, in compliance with all Federal statutes and regulations. Except for the Departmental Library, which may contact the Superintendent of Documents for purchase of publications that are produced by agencies other than the Department, and which cannot be procured through the Division of Printing and Supply Management (DPSM), only the Office of Administrative Services (OAS) in the Business Operations Center, will liaison with Joint Committee on Printing (JCP), Government Printing Office (GPO), Superintendent of Documents, or Federal Prison Industries, Inc., as it relates to matters of printing, unless otherwise specifically authorized in writing by OAS.

H. Environmental Stewardship. The Department of Labor shall take appropriate actions to incorporate waste prevention and recycling in its daily operations and work to increase and expand markets for recovered materials and environmentally preferable products through greater preference and demand for such products.

I. Voluntary Health and Wellness Programs and Drug-Free Workplace Program. It is the Department's policy to establish and support voluntary health and wellness and drug-free workplace programs that foster and enhance the health and productivity of its workforce; to comply with applicable Federal health standards, requirements, and procedures; and to support employees in staying fit, well, drug-free and productive on the job.

J. Commercial Services Management (formerly Competitive Sourcing). It is the policy of the Department to support the spirit and intent of commercial services management as delineated in Office of Management and Budget Circular No. A-76 and to fully comply with all statutory and programmatic requirements pertaining to competitive sourcing and the Federal Activities Inventory Reform (FAIR) Act.

K. Metric System Conversion. It is the policy of the Department that the metric system of measurement is the preferred system of weights and measures for trade and commerce. Accordingly, to the extent economically feasible and with minimum disruption of operations, all agencies and organizations of the Department shall use the metric system of measurement in all grants, procurements, regulations, standards, and other business-related activities, except to the extent that such use is impractical or is likely to cause significant inefficiencies or loss of markets to United States firms. Consistent with government-wide policy, the Department will also permit the continued use of traditional systems of weights and measures in non-business activities.

L. Child Care Programs for Department Employees. It is the policy of the Department to maintain a child care facility consistent with legal requirements and directives. It is the Department's policy to foster a quality workplace for all employees by providing child care subsidies to lower income families of Department employees to assist them in their efforts to obtain quality, licensed day care for dependent children through the age of 13 and disabled children through the age of 18.

6. Delegation of Authority and Assignment of Responsibility to the Assistant Secretary for Administration and Management (the “ASAM”). The ASAM is hereby delegated authority and assigned responsibility, except as hereinafter provided, for carrying out the policies, programs, and activities of the Department of Labor, including those functions to be performed by the Secretary of Labor, as set forth below:

A. Performance Management.

1. Overseeing the preparation of the Department's strategic plans, performance plans and performance reports consistent with statutory and OMB requirements and directions.

2. Directing the preparation of responses to OIG reports regarding top management challenges.

3. Soliciting, procuring and overseeing studies by independent entities evaluating the impact and effectiveness of Departmental programs.

B. Employee Safety and Health and Workers' Compensation Program.

1. Serving as the Designated Agency Safety and Health Official (DASHO) pursuant to section 1-201(c) of Executive Order 12196, and, as such, directing the establishment, administration, and management of the Department's programs regarding safety and occupational health and workers' compensation consistent with applicable law.

2. Ensuring appropriate policy development, planning, implementation, coordination, and evaluation of the Department-wide safety, occupational health and workers' compensation program; securing the services of full-time professional staff qualified to provide technical assistance and training in the areas of safety (including ergonomics), industrial hygiene, and workers' compensation, and return-to-work services.

3. Ensuring that the Department's Office of Worker Safety and Health provides operational safety and occupational health services to agencies within the Department that do not perform these functions internally.

C. Operation and Maintenance of Departmental Buildings.

1. Serving as the Department's Senior Real Property Officer (SRPO) and, as such, developing policy and implementing an asset management planning process that meets the form, content and other requirements established by the Federal Real Property Council (FRPC).

2. As SRPO, monitoring the real property assets of the Department so that Departmental assets are managed consistent with the goals and objectives set forth in the Department's strategic plan prepared pursuant to 5 U.S.C. 306, the principles developed by the FRPC, and reflected in the Department's asset management plan, and such other duties and responsibilities incumbent upon the SRPO.

3. Consistent with legal authorities, including agreements and other arrangements with the General Services Administration and with other applicable lease documents relating to buildings in which the Department is the primary tenant, assuring the operation and maintenance of the Frances Perkins Building and other Departmental buildings in which the Department is the primary tenant—or has received delegated authority from the General Services Administration for operations and maintenance—including making arrangements for appropriate cleaning, utilities, fire and life safety arrangements, security arrangements, office space assignments, any parking areas (including space assignments), mail service, duplication services, building space alterations, any abatement work as appropriate.

D. Accessibility within Department of Labor Buildings and Facilities.

1. Developing policy and directives for the Department of Labor regarding compliance with the accessibility requirements of the Architectural Barriers Act of 1968 and any regulations promulgated pursuant to that Act.

2. Monitoring, investigating, and enforcing the provisions of the statute and regulations mentioned in paragraph a, above, with respect to the accessibility of buildings and facilities constructed, altered, or renovated by, on behalf of, or for the use of a recipient of Federal financial assistance, except for those facilities referred to in Paragraph 7.A., below relating to the Employment and Training Administration.

3. Serving as the Department's Accessibility Compliance Officer.

E. Telecommunications. Consistent with legal authorities, directing the acquisition and management of the Department's telecommunications assets and services for both local and long-distance.

F. Records Management.

1. In consultation with the Chief Information Officer (CIO) and the National Archives and Records Administration (NARA), establishing, administering, and managing the Department's Records Management Program.

2. Periodically evaluating the Department's Records Management Program to ensure that the Department's component agencies are in compliance with relevant Federal records management laws, regulations, and procedures related to the creation, maintenance and use, and disposition of Federal records, and agency recordkeeping requirements. Evaluations shall be scheduled to cover all agencies on a five-year cycle on an on-going basis. Records management program evaluations shall assess the effective implementation of the basic components of a records management program, as prescribed by NARA regulations and policies.

3. Assigning a Departmental Records Officer who will manage the day-to-day administration and management of all matters related to the Department's Records Management Program. The Departmental Records Officer shall be responsible for all matters related to the Department's Records Management Program and will coordinate with the National Archives and Records Administration.

G. Printing.

1. Overseeing the operation of a headquarters printing service and determining the duplicating and printing for the Department and its agencies, including making arrangements for scheduling and delivery to meet Departmental needs and notifying agencies of changes in printing operations.

2. Formulating policy and supervising operations relating to Departmental printing, duplicating, copying, centralized mailing and distribution and related equipment programs in the National Office and the regions.

3. Implementing and guiding enforcement within the Department of all Government printing, binding, duplication, and related laws and regulations.

4. Exclusively representing, directly or through a delegee, the Department with the Joint Committee on Printing on all matters pertaining to printing.

5. Exercising technical control over all copying, printing, binding, publishing, and related or auxiliary equipment and serving as the technical or final approving authority for all requests.

H. Environmental Stewardship.

1. Serving as the Department's Environmental Executive and, as such, providing management oversight of all Department environmental programs, including ensuring compliance with relevant Executive Orders, and coordinating such efforts with the Chief Acquisition Officer.

2. Establishing model facility demonstration programs that include comprehensive waste reduction and recycling programs and emphasizing the procurement of recycled materials and environmentally preferable products and services.

3. Designating a Department of Labor Recycling Coordinator who shall be responsible for: (a) Coordinating the development of an effective agency waste reduction and recycling program, and the affirmative procurement plan developed in accordance with OFPP guidelines, (b) coordinating Departmental action to develop benefits, costs and savings data to measure the effectiveness of the DOL program, and (c) coordinating the development of reports required by Executive Order and OFPP policy.

I. Voluntary Health and Wellness Programs and Drug-Free Workplace (DFW) Program. Establishing, administering, and managing the Department's voluntary employee health and wellness, fitness, employee-assistance and DFW programs in accordance with all statutory, regulatory, and administrative requirements.

J. Commercial Services Management (formerly Competitive Sourcing). Fulfilling the Department's responsibilities under the Federal Activities Inventory Reform Act of 1998 (the “FAIR Act”), Federal Acquisition Regulation (FAR), and Office of Management and Budget Circular No. A-76, and such other responsibilities as are assigned to the ASAM under Secretary's Order 2-2009 (Delegation of Authority and Assignment of Responsibility to the Chief Acquisition Officer and Assistant Secretary for Administration and Management, and Related Matters). Such commercial services management activities shall be coordinated with the Chief Acquisition Officer and Chief Human Capital Officer, as appropriate.

K. Metric System Conversion. Serving as the Department's “Metric Executive” and (a) provide management oversight of the Department's continued use of the metric system of measurement consistent with Departmental policy; (b) appointing a Departmental official whose primary function shall be to coordinate and monitor agency metric system efforts, and to advise the Metric Executive on status, as appropriate; (c) representing the Department on the any interagency bodies addressing issues related to metric policy; and (d) coordinating compliance with all applicable laws and regulations.

L. Childcare Programs for Department Employees.

1. Providing appropriate services to the child care providers located in the FPB, the BLS building and at any regional buildings where child care services are provided within Departmental offices.

2. Establishing, administering and managing the Department's child care subsidy program in accordance with all statutory, regulatory and administrative requirements.

M. Miscellaneous Responsibilities.

1. The ASAM will work in consultation and coordination with, as appropriate, the other Departmental officials who have authority and responsibility in the areas addressed by this order, including without limitation the Chief Acquisition Officer, the Chief Human Capital Officer, the Chief Information Officer, and the Chief Financial Officer.

2. The ASAM will perform any additional duties that are assigned to the ASAM by applicable law or regulation.

7. Delegation of Authority and Assignment of Responsibility to Other Agency Heads.

A. The Assistant Secretary for Employment and Training is delegated authority and assigned responsibility, in accordance with the policies and standards established by the ASAM, for monitoring, investigating and enforcing the laws referred to in paragraph 3.D., above, with respect to buildings and facilities that are financed in whole or in part by Employment and Training Administration (“ETA”) grants or loans and that are subject to standards for design, construction or alteration issued by ETA under the laws authorizing such grant or loan.

B. Agency Heads are delegated authority and assigned responsibility for:

1. Performance Management. Assist the ASAM, and his or her designees, as appropriate, in the preparation of the Department's strategic plans, performance plans and performance reports and cooperate in all program evaluations;

2. Employee Safety and Occupational Health and Workers' Compensation Program.

a. Giving full management support to the Department's safety, occupational health and workers' compensation program as provided in this Order and assuring that identified hazards are abated.

b. Operating occupational safety and occupational health programs in their national and field offices in accordance with applicable statutory, regulatory, administrative, and contractual requirements.

c. Appointing and arranging training for sufficient numbers of staff throughout their organizations to perform collateral or full-time safety/occupational health duties and to serve on safety/occupational health committees to assist managers, employees and full-time safety/health staff in the implementation of the responsibilities outlined in this Order.

d. Providing documentation of attainment of the Department's annual safety/health and workers' compensation program goals developed to reduce employee accidents, injuries and illnesses, and contain workers' compensation costs.

e. Holding managers, supervisors and employees accountable for their adherence to established safety/health policies, rules, regulations, and procedures, especially their participation in agency Accident Review Boards (ARBs) and safety and health training.

f. Providing employees appropriate personal protective and safety/occupational health equipment.

g. Conducting analyses of Agency jobs and ensuring that all workplaces are surveyed to identify and eliminate or minimize possible ergonomic risk factors.

h. Acquiring, to the extent practicable, tools, equipment and computer accessory furniture that is adjustable and adaptable to those using them.

i. Assuring that agency employees participate in educational and training experiences necessary to carry out their assigned duties in a safe and healthful manner.

j. Assuring, through partnership with appropriate unions, that employee representatives have the opportunity to participate in educational training experiences necessary to carry out their responsibilities.

3. Accessibility within Department of Labor Buildings. Adhering to the policies, standards, and directives established by the ASAM in accordance with paragraph 6.D.(1), above relating to accessibility within Department of Labor buildings and spaces occupied by agency offices.

4. Records Management.

a. Developing and implementing effective Records Management Programs within their respective organizations that are consistent with Departmental policy and directives.

b. Assigning an Agency Records Officer for the management and execution of the Agency's Records Management Program.

c. Ensuring that the appropriate Agency staff receives adequate records management training and participates in Departmental as well as Agency training and awareness activities.

5. Printing. Assuring compliance with all Government Printing Office regulations and directives and adhering to the policies, standards and directives established by the ASAM relating to printing operations.

6. Environmental Stewardship.

a. Promoting waste reduction and recycling of reusable materials within their agencies;

b. Requiring consideration of the following factors in acquisition planning for all agency procurement actions, and in the evaluation and award of contracts: Elimination of virgin material requirements; use of recovered materials; reuse of products; life cycle costs; recyclability; environmental preferability; waste prevention; and ultimate disposal, if appropriate;

c. Developing and implementing an agency plan for energy conservation through changes in procurement practices, investment in energy efficient technology, and reduction of demand;

d. Designating an Agency Recycling Coordinator to coordinate the development of an effective agency waste reduction and recycling program, and emphasize agency purchase and use of recycled and environmentally preferable products and services;

e. Providing data and information on agency activity for incorporation into Departmental reports;

f. Designating facility energy supervisors in Department operated facilities and ensuring a sufficient number of trained energy managers throughout the Department to implement the provisions of law and regulation relating to energy and water conservation;

g. Where programs include a project or activity involving construction or leasing of property, ensuring that the responsible program manager conducts an environmental assessment; and, analyzes findings of environmental assessments and makes final decisions regarding the significance of environmental consequences;

7. Voluntary Health and Wellness Programs. Supporting the Department's voluntary health and occupational wellness programs and drug-free workplace program.

8. Commercial Services Management (formerly Competitive Sourcing).

a. Establishing agency procedures necessary to carry out the provisions of the law, regulation and Departmental directives relating to commercial services management.

b. Designating an agency official as the central point of contact for commercial services management and ensuring the timely and appropriate completion of required activities and notices.

8. The Solicitor of Labor. The Solicitor of Labor is delegated authority and assigned responsibility for providing legal advice and assistance to all officers of the Department relating to the administration of all of the elements of this Order and the statutory provisions, regulations, and Executive Orders listed above. The Solicitor of Labor shall have responsibility for legal advice and assistance through rulings and interpretations of applicable laws and regulations and for drafting services. The bringing of legal proceedings under those authorities, the representation of the Secretary and other officials of the Department of Labor, and the determination of whether such proceedings or representations are appropriate in a given case, are delegated exclusively to the Solicitor.

9. Reservation of Secretary's Authority and Responsibility.

A. The submission of reports and recommendations to the President and the Congress is reserved to the Secretary.

B. This Secretary's Order does not affect the authorities and responsibilities of the Office of Inspector General under the Inspector General Act of 1978, as amended, or under Secretary's Order 4-2006.

10. Re-delegation of Authority. Unless identified as non-delegable under this Order, authorities delegated within this Order may be re-delegated, provided, however, that re-delegation shall in no way diminish the delegating official's responsibility.

11. Effective Date. This order is effective immediately.

Edward C. Hugler,
Acting Secretary of Labor.

[FR Doc. 2017-05189 Filed 3-14-17; 8:45 am]

BILLING CODE P